FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 5, 2011.

A. Federal Reserve Bank of San Francisco (Kenneth Binning, Vice President, Applications and Enforcement) 101 Market Street, San Francisco, California 94105-1579:

1. Stadium Capital Partners, L.P., Stadium Capital Qualified Partners, L.P., Stadium Capital Management LLC, John Welborn, Alexander Seaver, Christine Seaver, Bradley Kent, Melissa Kent, Dominic DeMarco, Kathleen DeMarco, Seaver Kent Family Investments, LLC, the Seaver Family Trust, the Kent Family Trust, and the Dominic P. DeMarco and Kathleen DeMarco Trustees; to acquire voting shares of Intermountain Community Bancorp, and thereby indirectly voting shares of Panhandle State Bank, both of Sandpoint, Idaho.

Board of Governors of the Federal Reserve System, June 15, 2011.
Robert deV. Frierson,
Deputy Secretary of the Board.

[FR Doc. 2011-15234 Filed 6-17-11; 8:45 am]

BILLING CODE 6210-01-P